DEPARTMENT OF AGRICULTURE

Forest Service

Notice of Meeting

AGENCY: Resource Advisory Committee, Sundance, Wyoming, USDA, Forest Service.

SUMMARY: Pursuant to the authorities in the Federal Advisory Committee Act (Pub. L. 92-463) and under the Secure Rural Schools and Community Self-Determination Act of 2000 (Pub. L. 106-393) the Black Hills National Forests' Crook County Resource Advisory Committee will meet Monday, April 19, 2005 in Sundance, Wyoming for a business meeting. The meeting is open to the public.

SUPPLEMENTARY INFORMATION: The business meeting on April 19, begins at 6:30 p.m., at the US Forest Service, Bearlodge Ranger District office, 121 South 21st Street, Sundance, Wyoming. Agenda topics will include: Discussion and determination of project proposals, update on re-authorization of Pub. L. 106-393, and an update on the nomination process for membership to committee for next FY. A public forum will begin after the regular business meeting.

FOR FURTHER INFORMATION CONTACT: Steve Kozel, Bearlodge District Ranger and Designated Federal Officer, at (307) 283-1361.

Dated: March 17, 2005.
Steve Kozel,
Bearlodge District Ranger

[FR Doc. 05-5798 Filed 3-23-05; 8:45 am]

BILLING CODE 3410-11-M